DEPARTMENT OF STATE

[Public Notice 4913]

Bureau of Administration; Notice of Availability of Preliminary Alternative Fueled Vehicle (AFV) Report for Fiscal Year 2004

AGENCY: Department of State.

ACTION: Notice.

SUMMARY: The U.S. Department of State, Bureau of Administration, is issuing this notice in order to comply with the Energy Policy Act of 1992 and 42 U.S.C. 13218(b). The purpose of this notice is to announce the public availability of the Department of State's preliminary Fiscal Year 2004 report at the following Web site: http://www.state.gov/m/a/c8503.htm.

FOR FURTHER INFORMATION CONTACT: Questions regarding AFV reports on the State Department website should be addressed to the Domestic Fleet Management and Operations Division (A/OPR/GSM/FMO) [Attn: Chappell Garner], 2201 C Street NW (Room B258), Washington, DC 20520, telephone 202-647-3245.

Dated: November 23, 2004.
Vincent J. Chaverini,
Deputy Assistant Secretary Office of Operations, Department of State.

[FR Doc. 04-26507 Filed 11-30-04; 8:45 am]

BILLING CODE 4710-24-P